DEPARTMENT OF HOMELAND SECURITY

Coast Guard

33 CFR Part 162

[CGD17-99-002]

RIN 1625-AA01

Anchorage Ground; Safety Zone; Speed Limit; Tongass Narrows and Ketchikan, AK

AGENCY: Coast Guard, DHS.

ACTION: Interim rule; reopen comment period.

SUMMARY: The Coast Guard is re-opening the comment period for its interim rule published in April 2000, prior to publishing the final rule. The interim rule created a seven-knot speed limit zone that is currently in effect. This rule also re-designated the safety zone in Ketchikan Harbor as an anchorage to reflect its actual use as an anchorage for large passenger vessels. Due to the length in time since the comment period for the interim rule closed, the Coast Guard is providing an additional opportunity for public comment.

DATES: Comments and related material must reach the Coast Guard on or before December 22, 2003.

ADDRESSES: You may mail comments and related material to the USCG Marine Safety Office Juneau, 2760 Sherwood Lane, Suite 2A, Juneau, Alaska 99801. USCG Marine Safety Office Juneau maintains the public docket for this rulemaking. Comments and material received from the public, as well as documents indicated in this preamble as being available in the docket, will become part of this docket and will be available for inspection or copying at USCG Marine Safety Office Juneau between 8 a.m. and 8 p.m., Monday through Friday, except Federal holidays.

FOR FURTHER INFORMATION CONTACT: Lieutenant Tyrone Jones, Senior Investigating Officer, USCG Marine Safety Office Juneau, Alaska, telephone (907) 463-2470.

SUPPLEMENTARY INFORMATION:

Request for Comments

We encourage you to participate in this rulemaking by submitting comments and related material. If you do so, please include your name and address, identify the docket number for this rulemaking, [CGD17-99-002], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to USCG Marine Safety Office Juneau at the address under ADDRESSES explaining why one would be beneficial. If we determine that one would aid this rulemaking, we will hold one at a time and place announced by a later notice in the Federal Register.

Regulatory History

On March 25, 1999, the Coast Guard published a notice of proposed rulemaking (NPRM) entitled “Anchorage Ground; Safety Zone; Speed Limit; Tongass Narrows and Ketchikan, AK” in the Federal Register (64 FR 14414). On June 2, 1999, the Coast Guard published an interim rule in the Federal Register (64 FR 29554). A correction was issued on June 15, 1999 in the Federal Register (64 FR 32103).

On April 7, 2000, the Coast Guard published a second interim rule entitled “Anchorage Ground; Safety Zone; Speed Limit; Tongass Narrows and Ketchikan, AK” in the Federal Register (65 FR 18242). The comment period for this interim rule ended on October 31, 2000.

Background and Purpose

The Interim Rule published in 1999 extended the seven-knot speed limit on Tongass Narrows northward to Tongass Narrows Buoy 9 in order to address the needs of floatplane traffic. Non-commercial open skiffs were exempt from the seven-knot speed limit to allow them to transit crowded areas of Tongass Narrows more quickly, thereby relieving congestion.

The Interim Rule also re-designated a safety zone in Ketchikan Harbor as an anchorage. Vessels transiting the anchorage other than those engaged in anchoring evolutions are required to proceed through the anchorage by the most direct route without delay or sudden course changes. The re-designation of the area reflected its actual use as an anchorage for large passenger vessels. The slow or erratic operation of small vessels in the former safety zone made it very difficult for large vessels to safely maneuver to and from anchor. The requirement that transiting vessels proceed through the anchorage directly, without delay or sudden course changes, made the final approach, anchoring, and departure of large passenger vessels, safer for the vessels involved.

In April, 2000, a second Interim Rule was published addressing concerns from the public. The Coast Guard revised the exemption to the seven-knot speed limit to include all small vessels of 23 feet or less, registered length. This change allowed an increased number of small vessels that create little wake to transit crowded areas of Tongass Narrows more quickly, thereby relieving congestion.

Reopening the Comment Period

The comment period for the interim rule published in April 2000 ended October 31, 2000. In order to give the public a chance to make additional comments, the Coast Guard is reopening the comment period for this interim rule, prior to publishing a final rule. All comments must reach the public docket at the address found in ADDRESSES on or before December 22, 2003.

Dated: October 9, 2003.
D.W. Ryan,
Captain, Coast Guard, Commander, Seventeenth Coast Guard District (Acting).

[FR Doc. 03-26554 Filed 10-20-03; 8:45 am]

BILLING CODE 4910-15-P